ENVIRONMENTAL PROTECTION AGENCY

40 CFR Part 81

[EPA-R09-OAR-2008-0467; FRL-9901-12-Region 9]

Designation of Areas for Air Quality Planning Purposes; California; San Joaquin Valley, South Coast Air Basin, Coachella Valley, and Sacramento Metro Ozone Nonattainment Areas; Reclassification

AGENCY: Environmental Protection Agency (EPA).

ACTION: Withdrawal of proposed rule.

SUMMARY: EPA is withdrawing a proposed action to reclassify the Indian country pertaining to the Morongo Band of Mission Indians (Morongo Reservation) from “severe-17” to “extreme” for the 1997 eight-hour ozone standard.

DATES: The proposed rule published on August 27, 2009 (74 FR 43654) is withdrawn with respect to the Morongo Reservation on September 23, 2013.

FOR FURTHER INFORMATION CONTACT: Ken Israels, Grants and Program Integration Office (AIR-8), U.S. Environmental Protection Agency, Region IX, (415) 947-4102, israels.ken@epa.gov.

SUPPLEMENTARY INFORMATION: On August 27, 2009 (74 FR 43654), EPA published a proposed rule to grant requests by the State of California to reclassify four nonattainment areas for the 1997 8-hour ozone standards and to reclassify Indian country in keeping with the classifications of nonattainment areas within which they are located. On May 5, 2010 (75 FR 24409), EPA finalized the action as proposed except that EPA deferred reclassification of Indian country pertaining to the Morongo Band of Mission Indians (Morongo Reservation) and the Pechanga Band of Luiseno Mission Indians (Pechanga Reservation) in keeping with the state's request for the South Coast Air Basin. On January 2, 2013 (78 FR 51), EPA proposed to revise the boundaries of the South Coast Air Basin nonattainment area to designate the Morongo Reservation as a separate air quality planning area for the 1997 8-hour ozone standards. In the January 2, 2013 proposed rule, EPA indicated that, if the Agency finalizes the January 2, 2013 proposed rule, as proposed, EPA would withdraw the August 27, 2009 proposed rule to the extent that the 2009 proposed rule relates to the Morongo Reservation. In the Rules section of this Federal Register, EPA is finalizing its January 2, 2013 proposed rule, as proposed. In light of final Agency action on the January 2, 2013 proposal, EPA is withdrawing the August 27, 2009 proposed reclassification of the Morongo Reservation for the 1997 8-hour ozone standard. This withdrawal is being taken under Clean Air Act sections 301(a) and 301(d)(4).

List of Subjects in 40 CFR Part 81

Environmental protection, Air pollution control, Intergovernmental relations, National parks, Ozone, Wilderness areas.

Dated: September 4, 2013.
Jared Blumenfeld,
Regional Administrator, Region IX.

[FR Doc. 2013-22871 Filed 9-20-13; 8:45 am]

BILLING CODE 6560-50-P